DEPARTMENT OF ENERGY

Federal Energy Regulatory Commission

[Docket No. RP00-477-001]

Tennessee Gas Pipeline Co.; Notice of Compliance Filing

April 20, 2001.

Take notice that on April 6, 2001, Tennessee Gas Pipeline Company (Tennessee), tendered for filing revise pro forma tariff sheets identified in Appendix A to the filing, in Tennessee's FERC Gas Tariff, Fifth Revised Volume No. 1.

Tennessee states that this filing is in further compliance with the Federal Energy Regulatory Commission's Orders No. 637, 637-A and 637-B. Regulation of Short-Term Natural Gas Transportation Services and Regulation of Interstate Natural Gas Transportation Services, Order No. 637, 65 FR 10,156 (Feb. 25, 2000); III FERC Stats. & Regs. Regulations Preambles ¶ 31,091 (Feb. 9, 2000); Order No. 637-A, 65 FR 35706 (June 5, 2000), III FERC Stats. & Regs. Regulations Preambles ¶ 31, 099 (May 19, 2000), order denying reh'g., Order No. 637-B, 92 FERC ¶ 61, 062 (2000).

Any person desiring to protest said filing should file a protest with the Federal Energy Regulatory Commission, 888 First Street, NE, Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-9300 Filed 4-13-01; 8:45 am]

BILLING CODE 6717-01-M